DEPARTMENT OF TRANSPORTATION

Federal Highway Administration

Environmental Impact Statement: Little Cottonwood Canyon, Salt Lake County, Utah

AGENCY: Federal Highway Administration (FHWA), DOT.

ACTION: Notice of intent to prepare an Environmental Impact Statement.

SUMMARY: FHWA, on behalf of the Utah Department of Transportation (UDOT), is issuing this notice to advise the public that an Environmental Impact Statement (EIS) will be prepared for proposed transportation improvements in and near Little Cottonwood Canyon in Salt Lake County, Utah.

FOR FURTHER INFORMATION CONTACT: Brandon Weston, Environmental Services Director, Environmental Services Division, UDOT 4501 South 2700 West, P.O. Box 141265, Salt Lake City, Utah 84114-1265; Telephone: (801) 965-4603, email: brandonweston@utah.gov. John Thomas, PE, Little Cottonwood Canyon Project Manager, UDOT Region 2, 2010 South 2760 West, Salt Lake City, UT 84104-4592; Telephone: (801) 550-2248, Email: johnthomas@utah.gov.

SUPPLEMENTARY INFORMATION: The environmental review, consultation, and other actions required by applicable federal environmental laws for this project are being or have been carried out by UDOT pursuant to 23 U.S.C. 327 and a Memorandum of Understanding dated January 17, 2017, and executed by FHWA and UDOT. UDOT, as the assigned National Environmental Policy Act (NEPA) agency, will prepare an EIS for proposed improvements to SR-210, a two-lane roadway, in Little Cottonwood Canyon in Salt Lake County, Utah. The proposed project study area extends from the intersection of SR-210 and SR-190/Fort Union Boulevard in Cottonwood Heights, Utah to the terminus of SR-210 in the town of Alta, Utah. Transportation improvements are needed to address congestion, improve safety for all users, and enhance the availability of public transportation options in the canyon. To address these needs, UDOT is proposing to make operational improvements, introduce demand-management measures, and support efforts by transit providers to implement increased transit service in the project study area. UDOT has developed this proposal based on numerous previous studies and public involvement efforts carried out by a range of agencies and stakeholders regarding the need for potential transportation improvements in the project study area. The project may require FHWA to appropriate National Forest System lands and transfer such lands to UDOT for highway use, pursuant to authority under 23 U.S.C. 317. The project may also require approvals by the USDA Forest Service, the U.S. Army Corps of Engineers, and/or other agencies.

UDOT will consider a range of alternatives based on the purpose of and need for the project and taking into account agency and public input. The currently contemplated alternatives include: (1) Taking no action; (2) multiple, combined actions, including:

• Transportation System Management (TSM);

• Making operational improvements;

• Introducing demand-management measures;

• Tolling and/or high-occupancy vehicle (HOV) programs;

• Facilitating implementation of improved public transit service;

• Enhancing safety, access, and mobility in the area through improved information sharing and adding designated parking areas; and

• Roadway improvements;

(3) different combinations of any of the above; and (4) other alternatives if identified during the scoping process. Alternatives that do not meet the project purpose and need or that are otherwise not reasonable will not be carried forward for detailed consideration.

A Coordination Plan is being prepared to define the agency and public participation procedure for the environmental review process. The plan will outline (1) how agencies and the public will provide input during the scoping process; (2) the development of the purpose and need; and (3) alternatives development. UDOT anticipates that the USDA Forest Service will be invited to serve as a cooperating agency in the NEPA process.

Letters describing the proposed action and soliciting comments will be sent to appropriate Federal, state, and local agencies as well as to Native American tribes and to private organizations and citizens who have previously expressed, or who are known to have, an interest in this proposal. A public scoping meeting will be held on April 10, 2018 from 4:00 p.m. to 8:00 p.m. at Cottonwood Heights City Hall, 2277 East Bengal Boulevard, Cottonwood Heights, Utah 84121. Public notices announcing the meeting will be published in the region. Information regarding this meeting and the project may also be obtained through a public website maintained by UDOT at www.udot.utah.gov/littlecottonwoodeis.

During the NEPA process, other public meetings will be held as appropriate to allow the public, as well as Federal, state, and local agencies, and tribes, to provide comments on the purpose of and need for the project, potential alternatives, and social, economic, and environmental issues of concern.

In addition, a public hearing will be held following the release of the Draft EIS. Public notice advertisements and direct mailings will notify interested parties of the time and place of the public meetings and the public hearing. The Draft EIS will be available for public and agency review and comment prior to the public hearing.

To ensure that the full range of issues related to this proposed action is addressed and all significant issues are identified, comments and suggestions are invited from all interested parties. Written comments or questions concerning this proposed action and the EIS should be directed to UDOT representatives at the mail or email addresses provided above by May 4, 2018. For additional information please visit the project website at www.udot.utah.gov/littlecottonwoodeis. Information requests or comments can also be provided by email to littlecottonwoodeis@utah.gov.

(Catalog of Federal and Domestic Assistance Program Number 20.205, Highway Research, Planning and Construction. The regulations implementing Executive Order 12372 regarding intergovernmental consultation on Federal programs and activities apply to this program.)

Dated: March 5, 2018.
Ivan Marrero,
Division Administrator, Federal Highway Administration, Salt Lake City, Utah.

[FR Doc. 2018-04808 Filed 3-8-18; 8:45 am]

BILLING CODE 4910-22-P